DEPARTMENT OF THE TREASURY

Submission for OMB Review; Comment Request

June 11, 2012.

The Department of the Treasury will submit the following information collection request to the Office of Management and Budget (OMB) for review and clearance in accordance with the Paperwork Reduction Act of 1995, Public Law 104-13, on or after the date of publication of this notice.

DATES: Comments should be received on or before July 16, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or on-line at www.PRAComment.gov.

FOR FURTHER INFORMATION CONTACT: Copies of the submission(s) may be obtained by calling (202) 927-5331, email at PRA@treasury.gov, or the entire information collection request may be found at www.reginfo.gov.

Office of the Procurement Executive

OMB Number: 1505-0080.

Type of Review: Revision of a currently approved collection.

Title: Post-Contract Award Information.

Abstract: Information requested of contractors is specific to each contract and is required for Treasury to properly evaluate the progress made and/or management controls used by contractors providing supplies or services to the Government, and to determine contractors' compliance with the contracts, in order to protect the Government's interest.

Affected Public: Private Sector: businesses or other for-profits.

Estimated Total Annual Burden Hours: 221,112.

OMB Number: 1505-0081.

Type of Review: Revision of a currently approved collection.

Title: Solicitation of Proposal Information for Award of Public Contracts.

Abstract: Information requested of offerors is specific to each procurement solicitation, and is required for Treasury to properly evaluate the capabilities and experience of potential contractors who desire to provide the supplies or services to be acquired. Evaluation will be used to determine which proposal most benefit the Government.

Affected Public: Private Sector: businesses or other for-profits.

Estimated Total Annual Burden Hours: 291,105.

OMB Number: 1505-0107.

Type of Review: Revision of a currently approved collection.

Title: Regulation Agency Protests.

Abstract: Information is requested of contractors so that the Government will be able to evaluate protests effectively and provide prompt resolution of issues in dispute when contractors file protests.

Affected Public: Private Sector: businesses or other for-profits.

Estimated Total Annual Burden Hours: 50.

Dawn D. Wolfgang,
Treasury PRA Clearance Officer.

[FR Doc. 2012-14561 Filed 6-13-12; 8:45 am]

BILLING CODE 4810-25-P